INTERNATIONAL TRADE COMMISSION

[Inv. No. 337-TA-492]

In the Matter of Certain Plastic Grocery and Retail Bags; Notice of Decision Not To Review an Initial Determination Granting a Motion To Amend the Complaint and Notice of Investigation To Add Six Respondents

AGENCY: U.S. International Trade Commission.

ACTION: Notice.

SUMMARY: Notice is hereby given that the U.S. International Trade Commission has determined not to review an initial determination (ID) issued by the presiding administrative law judge (ALJ) in the above-captioned investigation amending the complaint and notice of investigation to add six entities as respondents in the investigation.

FOR FURTHER INFORMATION CONTACT: Andrea Casson, Esq., Office of the General Counsel, U.S. International Trade Commission, 500 E Street, SW., Washington, DC 20436, telephone 202-205-3105. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on May 1, 2003, based on a complaint filed by Superbag Corp. (“Superbag”) of Houston, Texas, against four respondents. 68 FR 24755. Superbag's complaint alleges violations of section 337 of the Tariff Act of 1930 in the importation into the United States, sale for importation, and/or sale within the United States after importation of certain T-styled plastic grocery and retail bags that infringe one or more of claims 1-8 and 15-19 of Superbag's U.S. Patent No. 5,188,235.

On August 8, 2003, Superbag filed a motion to amend its complaint to add the following six entities as respondents in the investigation: Advance Polybag, Inc. of Metarie, Louisiana; Universal Polybag Co., Ltd. of Thailand; Prime Source International LLC of Westerville, Ohio; Nantong Huasehng Plastic Products Co. of China; Bee Lian Plastic Marketing PTE Ltd. of Singapore; and Polson Products Limited of Hong Kong. The Commission investigative attorney supported the motion. Two of the proposed new respondents, Advance Polybag and Universal Polybag, opposed the motion.

On August 22, 2003, the ALJ issued an ID (Order No. 7) granting Superbag's motion. No petitions for review of the ID were filed.

This action is taken under the authority of section 337 of the Tariff Act of 1930, 19 U.S.C. 1337, and section 210.42(h) of the Commission Rules of Practice and Procedure, 19 CFR 210.42(h).

By order of the Commission.
Issued: September 12, 2003.
Marilyn R. Abbott,
Secretary.

[FR Doc. 03-23803 Filed 9-17-03; 8:45 am]

BILLING CODE 7020-02-P